NUCLEAR REGULATORY COMMISSION

[Docket No. 50-245]

Northeast Nuclear Energy Company; Millstone Nuclear Power Station, Unit 1; Environmental Assessment and Finding of No Significant Impact

The U.S. Nuclear Regulatory Commission (NRC) is considering issuance of an amendment to Facility Operating License No. DPR-21 issued to Northeast Nuclear Energy Company, the licensee, for the Millstone Nuclear Power Station, Unit 1 (MP1), a permanently shutdown nuclear reactor facility located in Waterford, Connecticut.

Environmental Assessment

Identification of Proposed Action

The proposed action would revise certain License Conditions, delete other License Conditions, and delete some Confirmatory Orders to reflect the permanently shutdown and defueled status of the plant. The proposed action is in accordance with the licensee's application for amendment dated June 6, 2000.

The Need for the Proposed Action

Currently, the MP1 Operating License (DPR-21) is written to apply to an operating facility. MP1 is permanently shutdown and defueled; therefore, the licensee determined that changes to certain License Conditions and Confirmatory Orders were necessary to reflect the permanently shutdown and defueled status of the plant.

Environmental Impact of the Proposed Action

The Commission has completed its evaluation of the proposed amendment to the MP1 License and concludes that issuance of the proposed amendment will not have an environmental impact. The proposed changes to the License Conditions and Orders are consistent with the regulations and regulatory guidance for a permanently shutdown and defueled facility and are considered editorial and administrative in nature. The licensee does not propose any disposal or relocation of nuclear fuel or any changes to structures, systems, components, or site boundaries.

The proposed action will not increase the probability or consequences of accidents, no changes are being made in the types of any effluents that may be released off site, and there is no significant increase in occupational or public radiation exposure. Therefore, there are no significant radiological environmental impacts associated with the proposed action.

With regard to potential non-radiological impacts, the proposed action does not involve any historical sites. It does not affect non-radiological plant effluents and has no other environmental impact. Therefore, there are no significant non-radiological environmental impacts associated with the proposed action.

Accordingly, the NRC concludes that there are no significant environmental impacts associated with the proposed action.

Alternative to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for MP1.

Agencies and Persons Contacted

In accordance with its stated policy, on September 25, 2000, the staff consulted with the State of Connecticut official, Mr. Michael Firsick of the Connecticut Department of Environmental Protection, regarding the environmental impact of the proposed action. The State official had no comments.

Finding of No Significant Impact

On the basis of the environmental assessment, the NRC concludes that the proposed action will not have a significant effect on the quality of the human environment. Accordingly, the Commission has determined not to prepare an environmental impact statement for the proposed action.

For further details with respect to the proposed action, see the licensee's letter dated June 6, 2000, which may be examined, and/or copied for a fee, at the Commission's Public Document Room, located at One White Flint North, 11555 Rockville Pike (first floor), Rockville, Maryland. Publicly available records are accessible electronically from the ADAMS Public Library component on the NRC Web site, http://www.nrc.gov/NRC/ADAMS/index.html (the Electronic Reading Room).

Dated at Rockville, Maryland, this 31st day of October 2000.
For the Nuclear Regulatory Commission.
John B. Hickman,
Project Manager, Decommissioning Section, Project Directorate IV & Decommissioning, Division of Licensing Project Management, Office of Nuclear Reactor Regulation.

[FR Doc. 00-28775 Filed 11-8-00; 8:45 am]

BILLING CODE 7590-01-P